DEPARTMENT OF TRANSPORTATION

Federal Aviation Administration

Notice of Intent To Request Approval From the Office of Management and Budget of a Currently Approved Information Collection Activity, Request for Comments; Fractional Aircraft Ownership Programs

AGENCY: Federal Aviation Administration (FAA), DOT.

ACTION: Notice and request for comments.

SUMMARY: The FAA invites public comments about our intention to request the Office of Management and Budget (OMB) to approve a current information collection. Fractional Ownership is a program that offers increased flexibility in aircraft ownership. Owners purchase shares of an aircraft and agree to share their aircraft with others having an ownership share in that same aircraft. Owners agree to put their aircraft into a “pool” of other shared aircraft and to lease their aircraft to another owner in that pool. The aircraft owners use a common management company to maintain the aircraft and administer the leasing of the aircraft among the owners.

DATES: Please submit comments by May 15, 2006.

FOR FURTHER INFORMATION CONTACT: Judy Street on (202) 267-9895, or by e-mail at: Judy.Street@faa.gov.

SUPPLEMENTARY INFORMATION:

Federal Aviation Administration (FAA)

Title: Fractional Aircraft Ownership Programs.

Type of Request: Approval of a currently approved collection.

OMB Control Number: 2120-0684.

Forms(s): NA.

Affected Public: An estimated 3,672 Respondents.

Frequency: The information is collected as needed.

Estimated Average Burden Per Response: Approximately 10 hours per response.

Estimated Annual Burden hours: An estimated 38,128 hours annually.

Abstract: Fractional ownership is a new program that offers increased flexibility in aircraft ownership. Owners purchase shares of an aircraft and agree to share their aircraft with others having an ownership share in that same aircraft. Owners agree to put their aircraft into a “pool” of other shared aircraft and to lease their aircraft to another owner in that pool. The aircraft owners use a common management company to maintain the aircraft and administer the leasing of the aircraft among the owners.

ADDRESSES: Send comments to the FAA at the following address: Ms. Judy Street, Room 1033, Federal Aviation Administration, Standards and Information Division, ABA-20, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on March 9, 2006.
Judith D. Street,
FAA Information Collection Clearance Officer, Information Systems and Technology Services Staff, ABA-20.

[FR Doc. 06-2492 Filed 3-14-06; 8:45 am]

BILLING CODE 4910-13-M